ENVIRONMENTAL PROTECTION AGENCY

[EPA-HQ-OPP-2014-0888; FRL-9924-75]

Notice of Receipt of Requests for Amendments To Terminate Uses in Certain Pesticide Registrations; Correction

AGENCY: Environmental Protection Agency (EPA).

ACTION: Notice; correction.

SUMMARY: EPA issued a notice in the Federal Register of February 25, 2015, concerning Amendments to Terminate Uses in Certain Pesticide Registrations. This document corrects the uses being terminated for registration number 39967-118.

FOR FURTHER INFORMATION CONTACT: Christopher Green, Information Technology and Resources Management Division (7502P), Office of Pesticide Programs, Environmental Protection Agency, 1200 Pennsylvania Ave. NW., Washington, DC 20460-0001; telephone number: (703) 347-0367; email address: green.christopher@epa.gov.

SUPPLEMENTARY INFORMATION:

I. General Information

A. Does this action apply to me?

The Agency included in the February 25, 2015 notice, a list of those who may be potentially affected by this action.

B. How can I get copies of this document and other related information?

The docket for this action, identified by docket identification (ID) number EPA-HQ-OPP-2014-0888, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What does this correction do?

FR Doc. 2015-03926, published in the Federal Register of February 25, 2015, (80 FR 10091) (FRL-9921-65) is corrected as follows:

On page 10091, fourth column, under the heading, Use to be terminated, paragraph 1, line 4, correct Arts, Crafts Latex, Finger Paints, Paints, Coating, Inks & Dyes to read Arts/Crafts Latex/Finger Paints.

Authority: 7 U.S.C. 136 et seq.

Dated: March 19, 2015.
Mark A. Hartman,
Director, Information Technology and Resources Management Division, Office of Pesticide Programs.

[FR Doc. 2015-07951 Filed 4-7-15; 8:45 am]

BILLING CODE 6560-50-P